DEPARTMENT OF TRANSPORTATION

Federal Aviation Administration

[Summary Notice No. 2014-51]

Petition for Exemption; Summary of Petition Received; Ameriflight

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before September 8, 2015.

ADDRESSES: Send comments identified by docket number FAA-2014-0278 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Dale Williams (202) 267-4179, Office of Rulemaking, Federal Aviation Administration, 800 Independence Avenue SW., Washington, DC 20591.

This notice is published pursuant to 14 CFR 11.85.

Issued in Washington, DC, on August 12, 2015.
Lirio Liu,
Director, Office of Rulemaking.

Petition For Exemption

Docket No.: FAA-2014-0278.

Petitioner: Ameriflight, LLC.

Section(s) of 14 CFR Affected: § 135.243(c)(2).

Description of Relief Sought: Ameriflight, LLC seeks relief to allow an incremental reduction of the current 14 CFR 135.243(c)(2) 1,200 hour minimum flight time requirement for pilots in command of aircraft under instrument flight rules (IFR) to 1,000 flight hours provided specific operational restrictions, additional training, checking, Initial Operating Experience, and monitoring requirements are complied with as necessary to ensure an equivalent level of safety. The relief would apply exclusively to pilots in command engaged in Ameriflight, LLC cargo-only operations conducted under 14 CFR part 135 in propeller-powered airplanes which do not require a type rating. Ameriflight previously requested relief from § 135.243(c)(2) under Docket FAA-2012-0964 but withdrew its petition before FAA action in order to provide a new petition, which includes different information on how the petitioner proposes to achieve an equivalent level of safety.

[FR Doc. 2015-20253 Filed 8-17-15; 8:45 am]

BILLING CODE 4910-13-P